DEPARTMENT OF ENERGY

Federal Energy Regulatory Commission

[Docket No. RP98-52-054]

Southern Star Central Gas Pipeline, Inc.; Notice of Refund Report

June 17, 2004.

Take notice that on June 14, 2004, Southern Star Central Gas Pipeline, Inc. (Southern Star), formerly Williams Gas Pipelines Central, Inc., tendered for filing its report of activities regarding collection of Kansas ad valorem taxes in Southern Star's Docket No. RP98-52, et al.

Southern Star states that this filing is being made in compliance with Commission's order issued September 10, 1997 in Docket Nos. RP97-369-000, et al. The September 10 Order requires first sellers to make refunds for the period October 3, 1983 through June 28, 1988. Southern Star further states that the Commission directed that pipelines file reports concerning their activities to collect and flow through refunds of the taxes at issue. Southern Star states that the filing details refunds made to Missouri customers, remaining producer obligations and producer refunds received awaiting distribution.

Southern Star states that a copy of its filing was served on all parties included on the official service list maintained by the Secretary in this proceeding.

Any person desiring to protest said filing should file a protest with the Federal Energy Regulatory Commission, 888 First Street, NE., Washington, DC 20426, in accordance with Section 385.211 of the Commission's Rules and Regulations. All such protests must be filed on or before the protest date as shown below. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the eFiling link.

Protest Date: June 24, 2004.

Linda Mitry,
Acting Secretary.

[FR Doc. E4-1398 Filed 6-23-04; 8:45 am]

BILLING CODE 6717-01-P